DEPARTMENT OF TRANSPORTATION

Federal Aviation Administration

14 CFR Part 39

[Docket No. FAA-2012-0107; Directorate Identifier 2012-NM-018-AD; Amendment 39-16955; AD 2012-03-51]

RIN 2120-AA64

Airworthiness Directives; Airplanes Originally Manufactured by Lockheed for the Military as P2V Airplanes

AGENCY: Federal Aviation Administration (FAA), DOT.

ACTION: Final rule; request for comments.

SUMMARY: We are adopting a new airworthiness directive (AD) for certain airplanes originally manufactured by Lockheed for the military as P2V airplanes. This emergency AD was sent previously to all known U.S. owners and operators of these airplanes. This AD requires cleaning of the forward lower spar cap between wing stations 40 and 84.5 (right and left), and doing a detailed inspection for cracks, working fasteners, and other anomalies, including surface damage in the form of a nick, gouge, or corrosion; and repairing if necessary. This AD was prompted by a report of a significant crack in the principle wing structure. We are issuing this AD to detect and correct cracks, working fasteners, and other anomalies in the principle wing structure, which could cause significant loss of structural integrity of the wing.

DATES: This AD is effective March 2, 2012 to all persons except those persons to whom it was made immediately effective by Emergency AD 2012-03-51, issued on February 6, 2012, which contained the requirements of this amendment.

We must receive comments on this AD by April 2, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov; or in person at the Docket Operations Office between 9 a.m. and 5 p.m., Monday through Friday, except Federal holidays. The AD docket contains this AD, the regulatory evaluation, any comments received, and other information. The street address for the Docket Operations Office (phone: 800-647-5527) is in the ADDRESSES section. Comments will be available in the AD docket shortly after receipt.

FOR FURTHER INFORMATION CONTACT: Roger Caldwell, Aerospace Engineer, Denver Aircraft Certification Office, FAA, 26805 East 68th Avenue, Denver, CO 80249; phone: 303-342-1086; fax: 303-342-1088; e-mail: roger.caldwell@faa.gov.

SUPPLEMENTARY INFORMATION:

Discussion

On February 6, 2012, we issued Emergency AD 2012-03-51, which requires cleaning of the forward lower spar cap between wing stations 40 and 84.5 (right and left), and doing a detailed inspection for cracks, working fasteners, and other anomalies, including surface damage in the form of a nick, gouge, or corrosion; and repairing if necessary. That AD also requires sending inspection results (both positive and negative) to the FAA. This AD was prompted by a report of a significant crack in the principle wing structure on a Neptune Aviation Service, Inc. Model SP-2H (P2V-7) airplane. A crack approximately 24 inches long was found in the left side wing front spar and lower skin just outboard of the fuselage side of wing station 40. The crack propagated through the wing front spar web, lower chord, and wing lower skin through stringer No. 22 and aft to stringer No. 21. The cause of the cracking is unknown at this time. This condition, if not detected and corrected, could result in significant loss of structural integrity of the wing.

FAA's Determination

We are issuing this AD because we evaluated all the relevant information and determined the unsafe condition described previously is likely to exist or develop in other products of the same type design.

AD Requirements

This AD requires cleaning of the forward lower spar cap between wing stations 40 and 84.5 (right and left), and doing a detailed inspection for cracks, working fasteners, and other anomalies, including surface damage in the form of a nick, gouge, or corrosion; and repairing if necessary. This AD also requires sending inspection results (both positive and negative) to the FAA.

Interim Action

We consider this AD interim action. If final action is later identified, we might consider further rulemaking then.

FAA's Determination of the Effective Date

An unsafe condition exists that requires the immediate adoption of this AD. The FAA has found that the risk to the flying public justifies waiving notice and comment prior to adoption of this rule because of a report of a significant crack in the principle wing structure on a Neptune Aviation Service, Inc. Model SP-2H (P2V-7) airplane. This condition, if not detected and corrected, could result in significant loss of structural integrity of the wing. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2012-0107 and Directorate Identifier 2012-NM-018-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 38 airplanes of U.S. registry.

We estimate the following costs to comply with this AD:

Estimated Costs
Action | Labor cost | Parts cost | Cost per product | Cost on U.S. operators
Inspection | Up to 80 work-hours × $85 per hour = $6,800 | $100 | Up to $6,900 | Up to $262,200.

No definitive data are available for repair costs at this time.

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-03-51 Lockheed (Original Manufacturer): Amendment 39-16955; Docket No. FAA-2012-0107; Directorate Identifier 2012-NM-018-AD.

(a) Effective Date

This AD is effective March 2, 2012 to all persons except those persons to whom it was made immediately effective by Emergency AD 2012-03-51, issued on February 6, 2012, which contained the requirements of this amendment.

(b) Affected ADs

None.

(c) Applicability

This AD applies to all of the airplanes identified in paragraphs (c)(1), (c)(2), (c)(3), (c)(4), (c)(5), (c)(6), and (c)(7) of this AD, certificated in any category:

(1) Aero Union Corporation Model SP-2H (P2V-7) airplanes;

(2) Central Air Service, Inc. Model SP-2H (P2V-7) airplanes;

(3) Evergreen Air Center Model SP-2H (P2V-7) airplanes;

(4) Hawkins and Powers Aviation, Inc. Model HP-P2V-7 airplanes;

(5) Minden Air Corp Model SP-2H (P2V-7) airplanes;

(6) Neptune Aviation Service, Inc. Model SP-2H (P2V-7) airplanes; and

(7) USDA Forest Service (type certificate previously held by U.S. Department of Agriculture) Model P2V-5F (SP-2E) airplanes.

(d) Subject

Joint Aircraft System Component (JASC)/Air Transport Association (ATA) of America Code 57, Wings.

(e) Unsafe Condition

This AD was prompted by a report of a significant crack in the principle wing structure on a Neptune Aviation Service, Inc. Model SP-2H (P2V-7) airplane. We are issuing this AD to detect and correct cracks, working fasteners, and other anomalies in the principle wing structure, which could cause significant loss of structural integrity of the wing.

(f) Compliance

Comply with this AD within the compliance times specified.

(g) Inspections

Within one day after the effective date of this AD: Do the actions specified in paragraphs (g)(1), (g)(2), and (g)(3) of this AD.

(1) Gain access to the wing spar box between wing stations 40 and 84.5 (right and left sides of the airplane) through an access panel that allows for inspecting the forward lower spar cap assembly and remove or reposition any internal fuel bladder assembly that impedes access.

(2) Clean the exposed surface of the forward lower spar cap between wing stations 40 and 84.5 (right and left), and do a detailed inspection for cracks, working fasteners, and other anomalies, including surface damage in the form of a nick, gouge, or corrosion, of the forward lower spar cap between wing stations 40 and 84.5 (right and left).

(3) If any crack, working fastener, or other anomaly is found during any inspection required by paragraph (g)(2) of this AD, before further flight, repair in accordance with a method approved by the Manager, Denver Aircraft Certification Office (ACO), FAA. For a repair method to be approved by the Manager, Denver ACO, as required by this paragraph, the Manager's approval letter must specifically refer to this AD.

(h) Definition

For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.

(i) Reporting

Within 10 days after doing the inspection required by paragraph (g) of this AD: Submit a report of the findings (both positive and negative) of the inspections required by paragraph (g) of this AD to the Denver ACO, FAA, Attention: Roger Caldwell, 26805 East 68th Avenue, Denver, CO 80249; phone: 303-342-1086; fax: 303-342-1088; e-mail: roger.caldwell@faa.gov. The report must include a detailed figure or picture of all cracks and damage and the location, orientation, and size of all cracks and damage. The report must also include the airplane serial number, the number of landings and flight hours on the airplane, and a description of how the airplane is operated (e.g., firefighting, photography, etc.).

(j) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Special Flight Permit

Special flight permits, as described in Section 21.197 and Section 21.199 of the Federal Aviation Regulations (14 CFR 21.197 and 21.199), are not allowed unless approved in accordance with the procedures specified in paragraph (l) of this AD.

(l) Alternative Methods of Compliance (AMOCs)

(1) The Manager, Denver ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(m) Related Information

For further information about this AD, contact: Roger Caldwell, Aerospace Engineer, Denver Aircraft Certification Office, FAA, 26805 East 68th Avenue, Denver, CO 80249; phone: 303-342-1086; fax: 303-342-1088; e-mail: roger.caldwell@faa.gov.

(n) Material Incorporated by Reference

None.

Issued in Renton, Washington, on February 9, 2012.
Ali Bahrami,
Manager, Transport Airplane Directorate, Aircraft Certification Service.

[FR Doc. 2012-3618 Filed 2-15-12; 8:45 am]

BILLING CODE 4910-13-P